DEPARTMENT OF ENERGY

Federal Energy Regulatory Commission

Notice of Intent To File an Application for a New License

November 17, 2000.

a. Type of filing: Notice of Intent to File An Application for a New License.

b. Project no.: 289.

c. Date filed: November 3, 2000.

d. Submitted by: Louisville Gas and Electric Company—current licensee.

e. Name of project: Ohio Falls Hydroelectric Project.

f. Location: On the Ohio River in the City of Louisville, Jefferson County, Kentucky. The project is located at the U.S. Army Corps of Engineers' McAlpine Locks and Dam.

g. Filed pursuant to: Section 15 of the Federal Power Act.

h. Licensee contact: Bill Bosta, Director, Louisville Gas and Electric Company, 220 West Main Street, P.O. Box 32010, Louisville, KY 40232 (502) 627-2359.

i. FERC contact: John Costello, john.costello@ferc.fed.us, (202) 219-2914.

j. Effective date of current license: September 1, 1981.

k. Expiration date of current license: November 10, 2005.

l. Description of the project: The project consists of the following existing facilities: (1) A powerhouse containing 8 generating units having a total installed capacity of 80,320 kW, located at the U.S. Corps of Engineers' McAlpine Locks and Dam; (2) a 632-foot-long, 26-foot-high concrete headworks section built integrally with the powerhouse; (3) a 0.9-mile-long, 69-kV transmission line; (4) an access road; (5) one half-mile-long railroad tracks; and (6) other appurtenances.

m. Each application for a new license and any competing license applications must be filed with the Commission at least 24 months prior to the expiration of the existing license. All applications for license for this project must be filed by November 10, 2003.

Linwood A. Watson, Jr.,
Acting Secretary.

[FR Doc. 00-29949 Filed 11-22-00; 8:45 am]

BILLING CODE 6717-01-M